DEPARTMENT OF HEALTH AND HUMAN SERVICES

Administration for Children and Families

Proposed Information Collection Activity: State Personal Responsibility Education Program (PREP) (OMB #0970-0380)

AGENCY: Family and Youth Services Bureau (FYSB), Administration on Children, Youth and Families (ACYF), Administration for Children and Families (ACF), HHS.

ACTION: Request for public comment.

SUMMARY: The Administration on Children, Youth and Families (ACYF), Family and Youth Services Bureau (FYSB) requires mandatory formula grant applications, state plans, and performance progress reports from states and territories for the development of and implementation of their State Personal Responsibility Education Program (PREP). The State PREP Funding Opportunity Announcement sets forth the application and state plan requirements for the receipt of the following documents from applicants and awardees: Application, State Plan, and Performance Progress Report.

ACYF/FYSB are requesting a reinstatement with no changes to the previously approved information collections under OMB #0970-0380.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The purpose of the State PREP is to educate adolescents on both abstinence and contraception to prevent pregnancy and sexually transmitted infections and at least three adulthood preparation subjects. The Application and State Plan will offer information about the proposed state project and will be used as the primary basis to determine whether or not the project meets the minimum requirements for the award.

The Performance Progress Report will inform the monitoring of the grantees' program design, program evaluation, management improvement, service quality, and compliance with agreed upon goals. ACYF/FYSB will use the information to ensure effective service delivery. Finally, the data from this collection will be used to report outcomes and efficiencies and will provide valuable information to policy makers and key stakeholders in the development of program and research efforts.

Respondents: Forty-four states and seven territories, to include the District of Columbia, Puerto Rico, the Virgin Islands, Guam, the Northern Mariana Islands, the Federated States of Micronesia, and Palau.

Annual Burden Estimates
Instrument | Total number of respondents | Annual number of responses per respondent | Average burden hours per response | Annual burden hours
Application | 51 | 1 | 24 | 1224
State Plan | 51 | 1 | 40 | 2040
Performance Progress Reports | 51 | 2 | 16 | 1632

Estimated Total Annual Burden Hours: 4,896.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 513 of the Social Security Act (42 U.S.C. 713), as amended by Section 50503 of the Bipartisan Budget Act of 2018 (Pub. L. 115-123), which extended funding through fiscal year 2019, and was further extended by Section 3822 of the Coronavirus Aid, Relief, and Economic Security Act (Pub. L. 116-136).

John M. Sweet Jr,
ACF/OPRE Certifying Officer.

[FR Doc. 2020-16527 Filed 7-29-20; 8:45 am]

BILLING CODE 4184-37-P